GENERAL SERVICES ADMINISTRATION

48 CFR Parts 501, 504, 509, 519, 522, 536, 537, 552, and 570

[GSAR-TA-01; Docket No. 2015-0016; Sequence No. 1]

General Services Administration Acquisition Regulation (GSAR); Technical Amendments

AGENCY: Office of Acquisition Policy, General Services Administration (GSA).

ACTION: Final rule.

SUMMARY: General Services Administration (GSA) is amending the General Services Administration Acquisition Regulation (GSAR) to make editorial changes. This technical amendment includes updating references and links, as well as deleting repetitive information that is covered elsewhere within the General Services Administration Acquisition Manual (GSAM). Changes incorporate both internal acquisition guidance, and the regulatory acquisition policies.

DATES: Effective: January 13, 2016.

FOR FURTHER INFORMATION CONTACT: Ms. Leah Price, Procurement Analyst, by phone at 703-605-2558, or email at leah.price@gsa.gov for clarification of content. For information pertaining to the status or publication schedules, contact the Regulatory Secretariat Division at 202-501-4755. Please cite GSAR-TA-01; Technical Amendments.

SUPPLEMENTARY INFORMATION: GSA is amending the GSAR to make editorial changes throughout the GSAM. There are no significant content changes resulting from this technical amendment.

Outdated references and links have been updated. Throughout multiple GSAM parts, the Central Contractor Registration (CCR) and the Excluded Parties List System (EPLS) have been changed to System for Award Management (SAM). This follows similar Federal Acquisition Regulation (FAR) updates resulting from FAR Case 2012-033, for which a final rule was published in the Federal Register at 78 FR 37676 on June 21, 2013. Commerce Business Daily has also been replaced with its successor system, FedBizOpps. Multiple Web page links have also been updated, as have organizational references.

Repetitive information has been removed from the GSAM. Definitions for certain terms have been deleted from their respective sections because these definitions have been added to the non-regulatory portion of the GSAM at Part 502 as a result of GSAR Case 2013-G503.

List of Subjects in 48 CFR Parts 501, 504, 509, 519, 522, 536, 537, 552, and 570

Government procurement.

Dated: January 5, 2016.
Jeffrey A. Koses,
Senior Procurement Executive, Office of Acquisition Policy, Office of Government-wide Policy.

Therefore, GSA amends 48 CFR parts 501, 504, 509, 519, 522, 536, 537, 552, and 570 as set forth below:

PART 501—GENERAL SERVICES ADMINISTRATION ACQUISITION REGULATION SYSTEM

1. The authority citation for 48 CFR part 501 continues to read as follows:

Authority: 40 U.S.C. 121(c).

501.403 [Amended]

2. Amend section 501.403 by removing from paragraph (c) “SPE (V)” and adding “SPE (MV)” in its place.

501.404 [Amended]

3. Amend section 501.404 by removing from paragraph (c) “SPE (V)” and adding “SPE (MV)” in its place.

PART 504—ADMINISTRATIVE MATTERS

4. The authority citation for 48 CFR part 504 is revised to read as follows:

Authority: 40 U.S.C. 121(c).

5. Amend section 504.1103 by—

a. Redesignating paragraphs (1) through (4) as paragraphs (a) through (d), respectively;

b. Revising the newly redesignated paragraph (a); and

c. Removing from newly redesignated paragraphs (b) and (d) “CCR” wherever it appears and adding “SAM” in their places, respectively.

The revision reads as follows:

504.1103 Procedures.

* * * * *

(a) Verify that the prospective contractor's legal business name, Doing-Business-As (DBA) name (if any), physical street address, and Data Universal Number System (DUNS) number or DUNS+4 number, as found in the System for Award Management (SAM), match the information that will be included in the contract, order, or agreement resulting from the vendor's quote or proposal. Correct any mismatches by having the vendor amend the information in the SAM and/or the quote or proposal. The SAM information can be accessed through the SAM Web site (www.sam.gov) by creating a user account.

* * * * *

6. The authority citation for 48 CFR parts 509, 519, and 522 continues to read as follows:

Authority: 40 U.S.C. 121(c).

PART 509—CONTRACTOR QUALIFICATIONS

509.105-2 [Amended]

7. Amend section 509.105-2 in paragraph (c) by removing “the Chief Acquisition Officer” and adding “Acquisition Policy” in its place.

509.403 [Amended]

8. Amend section 509.403 by removing the Definitions “Debarring official” and “Suspending official”.

9. Amend section 509.405-1 by—

a. Removing from paragraph (a), introductory text, “on the current EPLS” and adding “as a current exclusion in the System for Award Management (SAM)” in its place;

b. Removing from paragraph (b), introductory text, “on the current EPLS” and adding “as a current exclusion in the SAM”; and

c. Removing from paragraph (c) “GSA Suspension and Debarment Official” and adding “Senior Procurement Executive” in its place.

509.405-2 [Amended]

10. Amend section 509.405-2 by removing “GSA Suspension and Debarment Official” and adding “Senior Procurement Executive” in its place.

PART 519—SMALL BUSINESS PROGRAMS

519.7006 [Amended]

11. Amend section 519.7006 by removing from paragraph (b) “in the “Excluded Parties List System”)” and adding “as an exclusion in the System for Award Management (SAM))” in its place.

519.7007 [Amended]

12. Amend section 519.7007 by—

a. Removing from paragraph (a)(3) “in the “Excluded Parties List System”)” and adding “as an exclusion in the (SAM))” in its place; and

b. Removing from paragraph (b) “Central Contractor Registration (CCR) at www.ccr.gov” and adding “SAM at www.sam.gov” in its place.

PART 522—APPLICATION OF LABOR LAWS TO GOVERNMENT ACQUISITIONS

522.001 [Removed]

13. Remove section 522.001.

14. Amend section 522.804-2 by revising the fourth and fifth sentence to read as follows:

522.804-2 Construction.

* * * The current goals for minority participation vary by location and are listed in the Technical Assistance Guide for Construction Participation Goals for Minorities and Females. This guide can be accessed at http://www.dol.gov/ofccp/index.htm.

522.805 [Amended]

15. Amend section 522.805 by—

a. Removing from paragraph (b) “http://www.dol.gov/esa/contacts/ofccp/ofcpkeyp.htm” and adding “http://www.dol.gov/ofccp/contacts/ofnation2.htm” in its place; and

b. Removing from paragraph (c) “http://www.dol.gov/esa/regs/compliance/posters/pdf/eeopost.pdf” and adding “http://www.dol.gov/ofccp/regs/compliance/posters/ofccpost.htm” in its place.

PART 536—CONSTRUCTION AND ARCHITECT-ENGINEER CONTRACTS

16. The authority citation for 48 CFR part 536 is revised to read as follows:

Authority: 40 U.S.C. 121(c).

536.602-1 [Amended]

17. Amend section 536.602-1 by removing from paragraph (b), introductory text, and paragraph (d) “Commerce Business Daily” and adding “FedBizOpps” in their places, respectively.

18. The authority citation for 48 CFR parts 537 and 552 continues to read as follows:

Authority: 40 U.S.C. 121(c).

PART 537—SERVICE CONTRACTING

537.110 [Amended]

19. Amend section 537.110 by removing from paragraph (a) “Ability One” and adding “AbilityOne” in its place.

PART 552—SOLICITATION PROVISIONS AND CONTRACT CLAUSES

552.215-70 [Amended]

20. Amend section 552.215-70 by removing “514.201-7(b) and” from the introductory text.

21. Amend section 552.216-72 by—

a. Revising the date of clause; and

b. Removing from paragraph (g), “(QI), 2100 Crystal Drive, Arlington, VA 22202, Telephone: (703) 605-9444” and adding “(I). Contact information can be found at: http://www.gsa.gov/portal/category/21404” in its place.

The revision reads as follows:

552.216-72 Placement of Orders.

* * * * *

Placement of Orders (JAN 2016)

* * * * *

22. Amend section 552.216-74 by—

a. Revising the date of the clause;

b. Redesignating the undesignated paragraphs as (a) through (c), respectively; and

c. Revising the newly redesignated paragraph (c).

The revisions read as follows:

552.216-74 Task-Order and Delivery-Order Ombudsman.

* * * * *

Task-Order and Delivery-Order Ombudsman (JAN 2016)

* * * * *

(c) The GSA Ombudsman is located at the General Services Administration (GSA), Office of Government-wide Policy (OGP), Office of Acquisition Policy (MV). Contact information for the GSA Ombudsman can be found at: http://www.gsa.gov/ombudsman.

23. Amend section 552.228-5 by—

a. Revising the date of clause; and

b. Removing from paragraph (a) “52.528-5” and adding “52.228-5” in its place.

The revision reads as follows:

552.228-5 Government as Additional Insured.

* * * * *

Government as Additional Insured (JAN 2016)

* * * * *

552.232-1 [Amended]

24. Amend section 552.232-1 by removing from the introductory text “532.7104” and adding “532.908(a)” in its place.

25. Amend section 552.238-74 by—

a. Revising the date of the clause; and

b. Removing from paragraph (a)(5) “http://www.fms.treas.gov/intn.html” and adding “http://www.fiscal.treasury.gov/fsreports/rpt/treasRptRateExch/treasRptRateExch_home.htm” in its place.

The revision reads as follows:

552.238-74 Industrial Funding Fee and Sales Reporting.

* * * * *

Modifications (Federal Supply Schedule) (JAN 2016)

* * * * *

PART 570—ACQUIRING LEASEHOLD INTERESTS IN REAL PROPERTY

26. The authority citation for 48 CFR part 570 is revised to read as follows:

Authority: 40 U.S.C. 121(c).

570.102 [Amended]

27. Amend section 570.102, by removing from the Definition “Small business” “http://www.sba.gov/size/sizetable_2002.html” and adding “https://www.sba.gov/content/small-business-size-standards” in its place.

570.108 [Amended]

28. Amend section 570.108 by removing from paragraph (a) “the Excluded Parties List System (EPLS)” and adding “exclusions in the System for Award Management (SAM)” in its place.

29. Amend section 570.701, in the table, by revising paragraphs (a), (b), (f), (j), and (k) to read as follows:

570.701 FAR provisions and clauses.

* * * * *

If . . . | Then include . . .
(a) the estimated value of the acquisition exceeds the micro-purchase threshold identified in FAR 2.101 | 52.204-3 Taxpayer Identification. 52.204-6 Data Universal Numbering System (DUNS) Number. 52.204-7 System for Award Management.
| 52.219-1 Small Business Program Representations.
| 52.219-28 Post-Award Small Business Program Rerepresentation (use if lease term exceeds five years).
| 52.232-23 Assignment of Claims.
| 52.232-33 Payment by Electronic Funds Transfer—System for Award Management.
| 52.233-1 Disputes.
(b) the estimated value of the acquisition exceeds $10,000 | 52.222-21 Prohibition of Segregated Facilities.
| 52.222-22 Previous Contracts and Compliance Reports.
| 52.222-25 Affirmative Action Compliance.
| 52.222-26 Equal Opportunity.
| 52.222-35 Equal Opportunity for Veterans.
| 52.222-36 Equal Opportunity for Workers with Disabilities.
| 52.222-37 Employment Reports on Disabled Veterans and Veterans of the Vietnam Era.
| * * * * * * *
(f) the estimated value of the acquisition exceeds the simplified lease acquisition threshold | 52.203-2 Certificate of Independent Price Determination. 52.203-7 Anti-Kickback Procedures. 52.204-5 Women-Owned Business (Other than Small Business).
| 52.209-5 Certification Regarding Responsibility Matters.
| 52.215-2 Audit and Records—Negotiation.
| 52.219-8 Utilization of Small Business Concerns.
| 52.223-6 Drug-Free Workplace.
| 52.233-2 Service of Protest.
* * * * * * *
(j) the estimated value of the acquisition exceeds $10 million | 52.222-24 Pre-award On-site Equal Opportunity Compliance Evaluation.
(k) the contracting officer requires cost or pricing data for work or services exceeding the threshold identified in FAR 15.403-4 | 52.215-10 Price Reduction for Defective Certified Cost or Pricing Data. 52.215-12 Subcontractor Certified Cost or Pricing Data.
* * * * * * *

[FR Doc. 2016-00475 Filed 1-12-16; 8:45 am]

BILLING CODE 6820-161-P